DEPARTMENT OF HEALTH AND HUMAN SERVICES

Administration for Children and Families

[OMB No.: 0970—NEW]

Submission for OMB Review; Comment Request; Child Care and Development Fund Quality Progress Report

Description: Lead Agencies are required to spend a certain percent of their Child Care and Development Fund (CCDF) awards on activities to improve the quality of child care. Lead Agencies are also required to invest in at least one of 10 allowable quality activities included in the Child Care and Development Block Grant (CCDBG) Act of 2014. In order to ensure that States and Territories are meeting these requirements, the CCDBG Act and the CCDF final rule require Lead Agencies to submit an annual report, identified as the Quality Progress Report in the CCDF final rule. The report must describe how quality funds were expended, including what types of activities were funded and measures used to evaluate progress in improving the quality of child care programs and services. The QPR replaces the Quality Performance Report that was previously an appendix to the CCDF Plan. The QPR increased transparency on quality spending and will continue to gather detailed information on how States and Territories are spending their quality funds, as well as more specific data points to reflect the requirements in the CCDBG Act and the CCDF final rule.

In the QPR, Lead Agencies are asked about the State's or Territory's progress in meeting its goals as reported in the CCDF Plan, and provide available data on the results of those activities. Specifically, this report will: (1) Ensure accountability for the use of CCDF quality funds, including a set-aside for quality infant and toddler care that begins in FY 2017; (2) track progress toward meeting State- and Territory-set indicators and benchmarks for improvement of child care quality per what they described in their CCDF Plans; (3) summarize how the Lead Agency is building a progression of professional development for child care providers as envisioned in the CCDBG Act of 2014 and CCDF final rule; and (4) inform federal technical assistance efforts and decisions regarding strategic use of quality funds.

The Office of Child Care (OCC) has given thoughtful consideration to the comments received during the 60-day Public Comment Period and has revised the QPR to better align with the new program requirements made under the CCDBG Act of 2014 and the final rule. The revised document also contains additional guidance and clarification where appropriate in order to improve the quality of information that is being collected. Note: A correction was also made to the burden hours. This 30-day Public Comment Period provides an opportunity for the public to submit comments to the Office of Management and Budget (OMB).

Copies of the proposed collection may be obtained by writing to the Administration for Children and Families, Office of Administration, Office of Information Services, 370 L'Enfant Promenade SW., Washington, DC 20447, Attn: ACF Reports Clearance Officer. All requests should be identified by the title of the information collection. Email address: infocollection@acf.hhs.gov.

Respondents: State and Territory CCDF Lead Agencies (56).

Annual Burden Estimates
Instrument | Number of respondents | Number of responses per respondent | Average burden hours per response | Total burden hours
CCDF QPR | 56 | 1 | 60.0 | 3,360

Estimated Total Annual Burden Hours: 3,360 hours.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-20765 Filed 9-27-17; 8:45 am]

BILLING CODE 4184-43-P